POSTAL REGULATORY COMMISSION

[Docket No. CP2014-58; Order No. 2120]

Change of Rates for Postal Product

AGENCY: Postal Regulatory Commission.

ACTION: Notice.

SUMMARY: The Commission is noticing a recent Postal Service filing concerning a change of rates for Inbound EMS 2 to the competitive product list. This notice informs the public of the filing, invites public comment, and takes other administrative steps.

DATES: Comments are due: July 21, 2014.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Commission Action

III. Ordering Paragraphs

I. Introduction

The Commission hereby provides notice that on July 11, 2014, the Postal Service filed a Notice, pursuant to 39 CFR 3015.5, announcing its intention to change rates for Inbound EMS 2, effective January 1, 2015.¹

¹ Notice of the United States Postal Service of Filing Changes in Rates Not of General Applicability for Inbound EMS 2, July 11, 2014 (Notice).

The Postal Service states that Governors' Decision Nos. 08-20 and 11-6 establish prices and classifications for this product and identify subsequent dockets addressing price changes. Id. at 1-2. It asserts that the new rates for Inbound EMS 2 are in compliance with the requirements of 39 U.S.C. 3633(a)(2) and that it has met its burden of providing notice to the Commission of changed rates within the scope of Governors' Decision Nos. 08-20 and 11-6, as required by 39 U.S.C. 3632(b)(3). Id. at 4.

The Postal Service filing includes four attachments as follows:

• Attachment 1—an application for non-public treatment of materials filed under seal;

• Attachments 2A and 2B—redacted copies of Governors' Decision Nos. 08-20 and 11-6;

• Attachment 3—a redacted set of the new rates; and

• Attachment 4—a certification addressing costs and prices.

II. Notice of Commission Action

The Commission establishes Docket No. CP2014-58 for consideration of matters raised by the Notice. Pursuant to 39 U.S.C. 505, it appoints Pamela A. Thompson to serve as an officer of the Commission (Public Representative) representing the interests of the general public in these proceedings.

Public portions of the Postal Service's filing can be accessed via the Commission's Web site (http://www.prc.gov). Access to non-public documents is governed by 39 CFR part 3007.

Interested persons may submit comments on whether the changes announced in the Notice are consistent with 39 U.S.C. 3632, 3633, 3642, 39 CFR 3015.5, and 39 CFR part 3020, subpart B. Comments are due no later than July 21, 2014. Comments are to be submitted via the Commission's Filing Online system at http://www.prc.gov unless a waiver is obtained. Information on how to obtain a waiver may be found by contacting the Commission's docket section at 202-789-6846.

III. Ordering Paragraphs

It is ordered:

1. The Commission establishes Docket No. CP2014-58 for consideration of the Notice of the United States Postal Service of Filing Changes in Rates Not of General Applicability for Inbound EMS 2, filed July 11, 2014.

2. Pursuant to 39 U.S.C. 505, the Commission appoints Pamela A. Thompson to serve as an officer of the Commission (Public Representative) to represent the interests of the general public in this proceeding.

3. Comments are due no later than July 21, 2014.

4. The Secretary shall arrange for publication of this order in the Federal Register.

By the Commission.
Shoshana M. Grove,
Secretary.

[FR Doc. 2014-16835 Filed 7-16-14; 8:45 am]

BILLING CODE 7710-FW-P